DEPARTMENT OF AGRICULTURE

Animal and Plant Health Inspection Service

[Docket No. APHIS-2015-0011]

Recognizing European Union (EU) and EU Member State Regionalization Decisions for African Swine Fever (ASF) by Updating the APHIS List of Regions Affected With ASF

AGENCY: Animal and Plant Health Inspection Service, USDA.

ACTION: Notice.

SUMMARY: We are advising the public that we added European Union (EU) and EU Member State-defined regions of the EU to the Animal and Plant Health Inspection Service (APHIS) list of regions affected with African swine fever (ASF). Going forward we will recognize as affected with ASF any region of the EU that the EU or any EU Member State has placed under restriction because of detection of ASF. These regions currently include portions of Estonia, Latvia, Lithuania, and Poland, and all of Sardinia. APHIS will list the EU- and EU Member State-defined regions as a single entity. We also removed Sardinia as an individually listed region from the APHIS list of ASF affected regions. We took these actions because of the detection of ASF in Estonia, Latvia, Lithuania, and Poland.

DATES: Effective Date: The addition of the EU- and EU Member State-defined regions to the APHIS list of regions affected with ASF was effective August 31, 2015.

FOR FURTHER INFORMATION CONTACT: Mr. Donald Link, Import Risk Analyst, Regionalization Evaluation Services, National Import Export Services, Veterinary Services, APHIS, 920 Main Campus Drive, Suite 200, Raleigh, NC 27606; (919) 855-7731; Donald.B.Link@aphis.usda.gov.

SUPPLEMENTARY INFORMATION: The regulations in 9 CFR part 94 (referred to below as the regulations) govern the importation of certain animals and animal products into the United States to prevent the introduction of various animal diseases, including rinderpest, foot-and-mouth disease, bovine spongiform encephalopathy, swine vesicular disease, classical swine fever, and African swine fever (ASF). The regulations prohibit or restrict the importation of live ruminants and swine, and products from these animals, from regions where these diseases are considered to exist.

Sections 94.8 and 94.17 of the regulations contain requirements governing the importation into the United States of pork and pork products from regions of the world where ASF exists or is reasonably believed to exist. A list of regions where ASF exists or is reasonably believed to exist is maintained on the Animal and Plant Health Inspection Service (APHIS) Web site at http://www.aphis.usda.gov/import_export/animals/animals_disease_status.shtml.

In a notice published in the Federal Register on August 31, 2015 (80 FR 52440-52441, Docket No. APHIS-2015-0011), we amended the list of regions where ASF exists or is reasonably believed to exist by adding a new entry that reads “Any restricted zone in the European Union (EU) established by the EU or any EU Member State because of detection of African swine fever in domestic or feral swine.” We also removed Sardinia as an individually listed region because Sardinia is under ASF restrictions by the EU. These list changes were effective August 31, 2015, and as a result of that action, the importation into the United States of pork and pork products from EU regions under restrictions for ASF became restricted.

The notice also proposed that APHIS would recognize as affected with ASF any region of the EU that the EU or any EU Member State has placed under restriction because of detection of ASF. Going forward, the APHIS-recognized ASF status of almost any region of the EU would follow the EU and EU Member State restrictions based on ASF detections; we would not list each affected region of the EU. The only exception would be Malta, which we currently recognize as affected with ASF, but which is not under ASF restrictions by the EU.

Comments on the notice were required to be received on or before October 30, 2015. We received one comment, from a domestic pork industry association. The commenter did not object to the recognition of EU and EU Member State regionalization decisions for ASF in the EU. The commenter expressed concern that ASF continues to spread within the wild boar population, and concern that the potential exists for further spread. The commenter urged APHIS to remain extremely vigilant regarding actions by the European Commission (EC) and affected Member States to address ASF.

APHIS agrees with the commenter that ASF continues to spread in wild boar, and that the potential exists for further spread. APHIS agrees with the commenter that we should remain extremely vigilant regarding actions taken by the EC and affected Member States to address ASF. APHIS will continue monitor the epidemiological situation. If the EU or an EU Member State significantly changes or entirely removes its ASF restrictions or otherwise significantly alters its regulatory framework for ASF, APHIS will conduct an evaluation to assess the impact of the changes on the risk of ASF introduction into the United States. APHIS will present for public comment the findings of any such evaluation.

Because the EU- and EU Member State-defined ASF-affected regions include areas not currently on the APHIS list of ASF-affected regions, we added the new entry to our list effective August 31, 2015, to prevent the introduction of ASF into the United States. The list of ASF-affected regions can be found at: http://www.aphis.usda.gov/import_export/animals/animals_disease_status.shtml. Copies of the list are also available via postal mail, fax, or email upon request to the Regionalization Evaluation Services, National Import Export Services, Veterinary Services, Animal and Plant Health Inspection Service, 4700 River Road Unit 38, Riverdale, MD 20737.

Authority: 7 U.S.C. 450, 7701-7772, 7781-7786, and 8301-8317; 21 U.S.C. 136 and 136a; 31 U.S.C. 9701; 7 CFR 2.22, 2.80, and 371.4.

Done in Washington, DC, this 17th day of February 2016.
Kevin Shea,
Administrator, Animal and Plant Health Inspection Service.

[FR Doc. 2016-03675 Filed 2-22-16; 8:45 am]

BILLING CODE 3410-34-P